DEPARTMENT OF ENERGY

Federal Energy Regulatory Commission

[Docket Nos. CP04-4-000, CP04-5-000, and CP04-6-000]

Lake Charles Express LLC; Notice of Filing

October 14, 2003.

Take notice that on October 3, 2003, Lake Charles Express LLC (LCE), 5444 Westheimer, Suite 1775, Houston, TX 77056, filed in the captioned dockets an application for a certificate of public convenience and necessity and related authorizations pursuant to Section 7 of the Natural Gas Act and Part 157 of the Commission's Rules and Regulations. LCE requests authorization to construct, own, operate and maintain certain facilities (LCE Project) to ultimately provide up to 1.2 million Dth per day of firm transportation service to BG LNG Services, LLC (BGLS). To meet the specific requirements of BGLS, LCE has planned the construction of the LCE Project facilities to provide for an in-service date of January 1, 2005. The application is on file with the Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

An open season for service utilizing the LCE Project facilities was conducted from June 6, 2003 through June 16, 2003. The open season resulted in LCE entering into a Precedent Agreement and a Service Agreement with BGLS for 1,200,000 Dth/d of firm transportation service pursuant to Rate Schedule FT-1, for a term of 20 years.

LCE proposes to construct, own, operate, and maintain approximately 37.85 miles of 30-inch and 36-inch diameter pipeline, originating at an interconnection with the liquefied natural gas import terminal of Trunkline LNG Company, LLC (“TLNG”) in Calcasieu Parish, Louisiana, and terminating at an interconnection with the facilities of Texas Eastern Transmission, LP (Texas Eastern) in the vicinity of Texas Eastern's Gillis Compressor Station in Beauregard Parish, Louisiana. LCE also proposes to construct interconnection facilities at the TLNG import terminal, eleven meter and regulation (M&R) and associated interconnect facilities along the pipeline route, and two parallel 1,717-foot 16-inch diameter lateral pipelines to interconnect with the facilities of one intrastate pipeline.

Specifically, LCE requests authorization to construct:

1. An interconnection with the facilities of TLNG at the TLNG outlet header on the premises of the TLNG import terminal in Calcasieu Parish, Louisiana, consisting of two tap valves with meter and regulation facilities, interconnecting piping, and an electronic gas measurement building;

2. Approximately 22.84 miles of 36-inch diameter pipeline, originating at the interconnection with TLNG and terminating at Texas Eastern's Iowa Gas Plant in Jefferson Davis Parish, Louisiana (South Segment);

3. Approximately 15.01 miles of 30-inch diameter pipeline, extending from the Iowa Gas Plant to an interconnection with the facilities of Texas Eastern in the vicinity of Texas Eastern's Gillis Compressor Station in Beauregard Parish, Louisiana (North Segment);

4. Five M&R and associated facilities along the South Segment to provide interconnections with (i) Sabine Gas Transmission Company in Calcasieu Parish; (ii) Cantera Natural Gas, Inc. (Cantera) at two interconnect locations in Calcasieu Parish; (iii) Calcasieu Gas Gathering System in Calcasieu Parish; and (iv) Texas Eastern where the proposed pipeline enters the Iowa Gas Plant in Jefferson Davis Parish;

5. Six M&R and associated facilities along the North Segment to provide interconnections with (i) Texas Eastern where the proposed pipeline exits the Iowa Gas Plant in Jefferson Davis Parish, and including a bypass regulator; (ii) Texas Gas Transmission Corporation in Jefferson Davis Parish; (iii) Florida Gas Transmission Company in Jefferson Davis Parish; (iv) Tennessee Gas Pipeline Company in Jefferson Davis Parish; (v) Transcontinental Gas Pipe Line Corporation in Beauregard Parish; and (vi) Texas Eastern near the Gillis Compressor Station in Beauregard Parish;

6. Two parallel 1,717-foot, 16-inch diameter lateral pipelines, extending from the proposed LCE Project pipeline to the Cantera facility in Calcasieu Parish; and

7. Appurtenant facilities.

Firm transportation service will be rendered to BGLS pursuant to LCE's Rate Schedule FT-1. BGLS will pay incremental FT-1 rates to compensate LCE for the costs of the LCE Project facilities, which are estimated to be approximately $72.3 million.

Any questions regarding the application are to be directed to Kerri Roberts, Lake Charles Express LLC, 5444 Westheimer, Suite 1775, Houston, Texas 77056.

There are two ways to become involved in the Commission's review of this project. First, any person wishing to obtain legal status by becoming a party to the proceedings for this project should, on or before the below listed comment date, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Motions to intervene, protests and comments may be filed electronically via the internet in lieu of paper; see, 18 CFR 385.2001(a)(1)(iii) and the instructions on the Commission's web site under the “e-Filing” link. The Commission strongly encourages electronic filings.

Comment Date: November 4, 2003.

Magalie R. Salas,
Secretary.

[FR Doc. E3-00082 Filed 10-21-03; 8:45 am]

BILLING CODE 6717-01-P